DEPARTMENT OF AGRICULTURE

Rural Utilities Service

[Docket Number: RUS-21-Electric-0020]

Badger State Solar, LLC: Notice of Intent To Prepare an Environmental Impact Statement and Hold a Virtual Public Scoping Meeting on October 26, 2021

AGENCY: Rural Utilities Service, Agriculture (USDA).

ACTION: Notice of intent to prepare an Environmental Impact Statement and hold a virtual public scoping meeting.

SUMMARY: The Rural Utilities Service (RUS) announces its intent to prepare an Environmental Impact Statement (EIS) and hold a virtual public scoping meeting in connection with possible impacts related to the Badger State Solar, LLC's Alternating Current solar project (Project). The Project consists of a 149-megawatt photovoltaic Alternating Current solar energy generating facility located on approximately 1,750 acres in the Townships of Jefferson and Oakland, in Jefferson County, Wisconsin. RUS is considering funding this application, thereby making the proposed Project an undertaking subject to review under the National Historic Preservation Act (NHPA). RUS has determined that a loan for the Project would be a federal action and is, therefore, subject to National Environmental Policy Act (NEPA) review.

DATES: The public scoping meeting webinar will be held on October 26, 2021 at 7 p.m. EST via Zoom. Those wishing to attend the webinar are invited to register online at the virtual scoping meeting room website https://badgerstatesolar.consultation.ai. An email will be sent to registrants with information for how to access the webinar. Attendees will be able to provide spoken comments during the webinar. The virtual scoping meeting room is an interactive website which will be available throughout the public scoping period. Attendees will be able to submit written comments through the virtual scoping meeting room website. Written comments may also be submitted to BadgerStateSolarEIS@usda.gov.

Written requests to participate as a “consulting party” or to provide comments for consideration during the scoping process for the proposed Project must be received on or before November 4, 2021.

ADDRESSES: To request “consulting party” status, submit comments, or for further information, please contact: BadgerStateSolarEIS@usda.gov.

Project-related information will be available at RUS's and Badger State Solar's websites located at: https://www.rd.usda.gov/resources/environmental-studies/impact-statements, https://badgerstatesolar.consultation.ai, and https://www.badgerstatesolar.com. This includes the Alternative Evaluation and Site Selection Studies prepared for the project. Project information will also be available at the Jefferson Public Library in Jefferson, WI; the Cambridge Community Library in Cambridge, WI and the Lake Mills Library in Lake Mills, WI.

Due to the COVID 19 pandemic, electronic communication is preferred because delivery of hard copies by mail may not be delivered in a timely manner.

SUPPLEMENTARY INFORMATION: RUS is the lead federal agency, as defined at 40 CFR 1508.1(o), for preparation of the EIS. With this notice, federal and state agencies and federally recognized Tribes with jurisdiction or special expertise are invited to be cooperating agencies. Such agencies or tribes may make a request to RUS to be a cooperating agency by contacting the RUS contact provided in this notice. Designated cooperating agencies have certain responsibilities to support the NEPA and scoping process, as specified at 40 CFR 1501.8.

In addition, with this notice, RUS invites any affected federal, state, and local agencies, Tribes, and other interested persons to comment on the scope, alternatives, and significant issues to be analyzed in depth in the EIS.

Throughout the scoping period a virtual public scoping meeting room will be available online at https://badgerstatesolar.consultation.ai. The virtual public scoping meeting room is an interactive website which will include information about the project, the NEPA process, and next steps in the process. Interested parties will also be able to register to attend the October 26 webinar on Zoom through the virtual scoping meeting room website.

Public participation is an integral component of the environmental review process for federal actions. Public participation will be especially important during the scoping phase of the proposed Project. RUS will be seeking information, comments, and assistance from federal, State, and local agencies, Tribes, and other individuals who may be interested in or affected by the proposed Project. This input will be used in preparing the Draft EIS. Comments submitted during the scoping process should be in writing. The comments should describe as clearly and completely as possible any issues, concerns, or input commenters may have so that they can be addressed appropriately in the EIS.

RUS is considering funding this application, thereby making the proposed Project an undertaking subject to review under Section 106 of the National Historic Preservation Act (NHPA), 16 U.S.C. 470(f), and its implementing regulation, “Protection of Historic Properties” (36 CFR part 800). Any party wishing to participate directly with RUS as a “consulting party” in Section 106 review may submit a written request to the RUS contact provided below. Pursuant to 36 CFR 800.3(f)(3), RUS will consider, and provide a timely response to any and all requests for consulting party status.

Badger State Solar proposes to construct, install, operate, and maintain a 149-megawatt photovoltaic Alternating Current solar energy generating facility on a site in the Townships of Jefferson and Oakland, in Jefferson County, Wisconsin. The proposed project is approximately 1,750 acres located on the north and south sides of U.S. Highway 18, approximately 2-miles west of the City of Jefferson and west of State Highway 89. The collector substation would be located in the Primary Development Area. Site land cover is predominantly agricultural crops and pasture, with some forest and wetland.

Construction involves the installation on leased lands of 127,752 single-axis tracking PV panels in the Primary Project area. The PV panels would be mounted on a steel racking frame. Supporting facilities include an electrical substation. The lease agreement allows for an operating period of 40 years. A power purchase agreement (PPA) has been executed with Dairyland Power Cooperative for the entire output of the Project. The proposed site is near the point of interconnection to the grid at the American Transmission Company Jefferson substation near the intersection of State Trunk Highway 89 and U.S. Highway 18.

Construction equipment would include graders, bulldozers, excavators, forklifts, trailers, plows, trenchers, pile drivers, and directional boring rigs. Vehicles for transporting construction materials and components primarily would be legal load over-the road flatbed and box trucks. Transport would use existing regional roads, bridges, and intersections. Laydown areas would be established within the Project site. Internal site access roads would be required. The site would be fenced. Overhead collector circuits would not be required.

Badger State has submitted an Application for a Certificate of Public Convenience and Necessity (CPCN) to the Public Service Commission of Wisconsin (PSC). Consultations have been conducted with the Wisconsin Department of Natural Resources (WDNR) and an endangered resource review (ER) has been submitted to the agency. Consultations with other agencies include the Federal Aviation Administration (FAA), Natural Resources Conservation Service (NRCS), U.S. Environmental Protection Agency (USEPA), and informal consultation with the U.S. Fish and Wildlife Service (USFWS). Badger State has consulted property owners, local town and county officials and staff, state elected representatives, Wisconsin Department of Agriculture Trade and Consumer Protection, and engaged the general public.

Among the alternatives that RUS will address in the EIS is the No Action alternative, under which the proposal would not be undertaken or if RUS did not fund the proposed Project, and any reasonable alternatives defined as a result of the scoping process. In the EIS, the effects of the proposal will be compared to the existing conditions in the affected area of the proposal. Public health and safety, environmental impacts, socio-economic, and engineering aspects of the proposal will also be considered in the EIS.

As part of its broad environmental review process, RUS must take into account the effect of the proposal on historic properties in accordance with Section 106 of the National Historic Preservation Act (Section 106) and its implementing regulation, “Protection of Historic Properties” (36 CFR part 800). Pursuant to 36 CFR 800.2(d)(3), RUS is using its procedures for public involvement under NEPA to meet its responsibilities to solicit and consider the views of the public during Section 106 review. Accordingly, comments submitted in response to this Notice will inform RUS decision-making during Section 106 review.

From information provided in the studies mentioned above, and using input provided by government agencies, tribes, and the public, RUS will prepare a Draft EIS. The Draft EIS will be filed with the U.S. Environmental Protection Agency (USEPA) and will be available for public comment by the Fall 2021. At that time, the RUS and USEPA will publish a notice of the availability of the Draft EIS and notice of receipt, respectively, in the Federal Register. In addition, the Badger State Solar will publish notices in local newspapers and any online local news sources. The comment period for the DEIS will be 45 days from the date the EPA publishes its Federal Register notice announcing receipt of the Draft EIS.

To assist the involved federal agencies in identifying and considering issues and concerns on the proposal, comments on the Draft EIS should be as specific as possible. It is also helpful if the comments refer to the specific pages or chapters of the Draft EIS. Comments may also address the adequacy of the Draft EIS or the merits of the alternatives formulated and discussed in the statement. Reviewers may wish to refer to the CEQ's regulations at 40 CFR 1503.3 in addressing these points. After the comment period ends on the Draft EIS, the comments will be analyzed, considered, and responded to by the agencies involved in preparing the Final EIS.

The public will again have the opportunity to review and comment on the Final EIS. Upon completion of a 30-day public comment period, the RUS will document its decision regarding the proposed Project and reasons for the decision in a Record of Decision. A public notice announcing the availability of the Record of Decision will be published in the Federal Register and local newspapers.

Any final action by RUS related to the proposal will be subject to, and contingent upon, compliance with all relevant executive orders and federal, state, and local environmental laws and regulations in addition to the completion of the environmental review requirements as prescribed in RUS Environmental Policies and Procedures, 7 CFR part 1970.

Christopher A. McLean,
Acting Administrator, Rural Utilities Service, U.S. Department of Agriculture.

[FR Doc. 2021-21579 Filed 10-4-21; 8:45 am]

BILLING CODE 3410-15-P